DEPARTMENT OF HOMELAND SECURITY

U.S. Customs and Border Protection

[Docket No. USCBP-2015-0043]

Advisory Committee on Commercial Operations to U.S. Customs and Border Protection (COAC)

AGENCY: U.S. Customs and Border Protection, Department of Homeland Security (DHS).

ACTION: Committee Management; Notice of Federal Advisory Committee Meeting.

SUMMARY: The Advisory Committee on Commercial Operations to U.S. Customs and Border Protection (COAC) will meet on October 29, 2015 in Washington, DC. The meeting will be open to the public.

DATES: The Advisory Committee on Commercial Operations to U.S. Customs and Border Protection (COAC) will meet on Thursday, October 29, 2015, from 1:00 p.m. to 4:00 p.m. EDT. Please note that the meeting may close early if the committee has completed its business.

Pre-Registration: Meeting participants may attend either in person or via webinar after pre-registering using a method indicated below:

—For members of the public who plan to attend the meeting in person, please register either online at https://apps.cbp.gov/te_reg/index.asp?w=47; by email to tradeevents@dhs.gov; or by fax to (202) 325-4290 by 5:00 p.m. EDT by October 27, 2015. You must register prior to the meeting in order to attend the meeting in person.

—For members of the public who plan to participate via webinar, please register online at https://apps.cbp.gov/te_reg/index.asp?w=48 by 5:00 p.m. EDT by October 27, 2015.

Feel free to share this information with other interested members of your organization or association.

Members of the public who are pre-registered and later require cancellation, please do so in advance of the meeting by accessing one (1) of the following links: https://apps.cbp.gov/te_reg/cancel.asp?w=47 to cancel an in person registration, or https://apps.cbp.gov/te_reg/cancel.asp?w=48 to cancel a webinar registration.

ADDRESSES: The meeting will be held at the International Trade Commission building, in Courtroom B, 500 E Street SW., Washington, DC 20436. There will be signage posted directing visitors to the location of Courtroom B.

For information on facilities or services for individuals with disabilities or to request special assistance at the meeting, contact Ms. Wanda Tate, Office of Trade Relations, U.S. Customs and Border Protection at (202) 344-1661 as soon as possible.

To facilitate public participation, we are inviting public comment on the issues to be considered by the committee prior to the formulation of recommendations as listed in the “Agenda” section below.

Comments must be submitted in writing no later than October 19, 2015, and must be identified by Docket No. USCBP-2015-0043, and may be submitted by one of the following methods:

• Federal eRulemaking Portal: http://www.regulations.gov. Follow the instructions for submitting comments.

• Email: Tradeevents@dhs.gov. Include the docket number in the subject line of the message.

• Fax: (202) 325-4290.

• Mail: Ms. Wanda Tate, Office of Trade Relations, U.S. Customs and Border Protection, 1300 Pennsylvania Avenue NW., Room 3.5A, Washington, DC 20229.

Instructions: All submissions received must include the words “Department of Homeland Security” and the docket number for this action. Comments received will be posted without alteration at http://www.regulations.gov, including any personal information provided. Do not submit personal information to this docket.

Docket: For access to the docket or to read background documents or comments, go to http://www.regulations.gov and search for Docket Number USCBP-2015-0043. To submit a comment, see the link on the Regulations.gov Web site for “How do I submit a comment?” located on the right hand side of the main site page.

There will be multiple public comment periods held during the meeting on October 29, 2015. Speakers are requested to limit their comments to two (2) minutes or less to facilitate greater participation. Contact the individual listed below to register as a speaker. Please note that the public comment period for speakers may end before the time indicated on the schedule that is posted on the CBP Web page, http://www.cbp.gov/trade/stakeholder-engagement/coac, at the time of the meeting.

FOR FURTHER INFORMATION CONTACT: Ms. Wanda Tate, Office of Trade Relations, U.S. Customs and Border Protection, 1300 Pennsylvania Avenue NW., Room 3.5A, Washington, DC 20229; telephone (202) 344-1440; facsimile (202) 325-4290.

SUPPLEMENTARY INFORMATION: Notice of this meeting is given under the Federal Advisory Committee Act, 5 U.S.C. Appendix. The Advisory Committee on Commercial Operations to U.S. Customs and Border Protection (COAC) provides advice to the Secretary of Homeland Security, the Secretary of the Treasury, and the Commissioner of U.S. Customs and Border Protection (CBP) on matters pertaining to the commercial operations of CBP and related functions within the Department of Homeland Security and the Department of the Treasury.

Agenda

The Advisory Committee on Commercial Operations to U.S. Customs and Border Protection (COAC) will hear from the following subcommittees on the topics listed below and then will review, deliberate, provide observations, and formulate recommendations on how to proceed on those topics:

1. The Trade Modernization Subcommittee will discuss the progress of the Center of Excellence and Expertise (CEE) Working Group which is addressing the topics of uniformity and levels of service across all of the CEEs. The subcommittee will also discuss the formation of two new working groups, the International Engagement & Trade Facilitation Working Group and the Future Role of Global Supply Chain Parties Working Group.

2. The Global Supply Chain Subcommittee will discuss recommendations related to the use of electronic cargo security devices and their impact on CBP operations. The Pipeline Working Group will provide recommendations pertaining to clear definitions on in-transit pipeline movements and related topics. The subcommittee will also discuss Customs—Trade Partnership Against Terrorism (C-TPAT), land ports of entry (Canada and Mexico), ocean cargo, in-transit movements and the Air Cargo Advance Screening pilot (ACAS).

3. The Exports Subcommittee Manifest Working Group will continue its review of the Federal Register Notices for the Air and Ocean Export Manifest Cargo Tests, and further discuss one of the elements developed from the COAC export mapping exercise, the Progressive Filing Model and Air Environment. The Exports Subcommittee will provide recommendations stemming from the reviews.

4. The One U.S. Government Subcommittee will discuss progress of the Automated Commercial Environment (ACE) Single Window effort and the COAC recommendations. The subcommittee will provide input on trade readiness and partner government agencies' readiness for the upcoming November 1, 2015, ACE implementation of Single Window. There will also be an update from the North American Single Window Vision Working Group. In addition, the Consumer Product Safety Commission (CPSC) and the Food and Drug Administration (FDA) will provide updates on previous COAC recommendations.

5. The Trade Enforcement and Revenue Collection Subcommittee will discuss the establishment of the 14th Term Intellectual Property Rights Working Group, the Trade Enforcement Vision Working Group, and progress made on the Antidumping and Countervailing Duty Working Group.

6. The Trusted Trader Subcommittee will report on the Trusted Trader Pilot and discussions on the implementation of the second phase for testing U.S. Customs and Border Protection (CBP) and partner government agency trade benefits.

Meeting materials will be available by October 26, 2015, at: http://www.cbp.gov/trade/stakeholder-engagement/coac/coac-public-meetings

Dated: September 25, 2015.
Maria Luisa Boyce,
Senior Advisor for Private Sector Engagement, Office of Trade Relations.

[FR Doc. 2015-24750 Filed 9-29-15; 8:45 am]

BILLING CODE 9111-14-P